DEPARTMENT OF COMMERCE

International Trade Administration

[C-412-815]

Preliminary Results of Full Sunset Review: Cut-to-Length Carbon Steel Plate From the United Kingdom

AGENCY: Import Administration, International Trade Administration, Department of Commerce.

SUMMARY: On November 1, 2005, the Department of Commerce (Department) initiated a sunset review of the countervailing duty (CVD) order on cut-to-length carbon steel plate (CTL plate) from the United Kingdom, pursuant to section 751(c) of the Tariff Act of 1930, as amended (the Act). On the basis of a notice of intent to participate and an adequate substantive response filed on behalf of the domestic interested parties and an adequate response from respondent interested parties, the Department determined to conduct a full sunset review of this CVD order pursuant to section 751(c) of the Act and 19 CFR 351.218(e)(2). As a result of our analysis, the Department preliminarily finds that revocation of the CVD order would likely to lead to continuation or recurrence of a countervailable subsidy at the level indicated in the “Preliminary Results of Review” section of this notice.

EFFECTIVE DATE: July 19, 2006.

FOR FURTHER INFORMATION CONTACT: Mark Hoadley or Kimberley Hunt, AD/CVD Operations, Office 6, Import Administration, International Trade Administration, U.S. Department of Commerce, 14th Street & Constitution Avenue NW., Washington, DC. 20230; telephone: (202) 482-3148 or (202) 482-1272, respectively.

SUPPLEMENTARY INFORMATION:

Background

On November 1, 2005, the Department initiated a sunset review of the CVD order on cut-to-length carbon steel plate from the United Kingdom pursuant to section 751(c) of the Act. See Initiation of Five-year (“Sunset”) Reviews, 70 FR 65884 (November 1, 2005). The Department received a notice of intent to participate from the following domestic interested parties: Nucor Corporation (Nucor), IPSCO, Inc., Mittal Steel USA Inc., Oregon Steel Mills, Inc., and United Steel, Paper and Forestry, Rubber, Manufacturing, Energy, Allied Industrial and Service Workers International Union, AFL-CIO-CLC (USW) (hereinafter, collectively domestic interested parties), within the deadline specified in 19 CFR 351.218(d)(1)(i). The domestic interested parties claimed interested party status under section 771(9)(C) of the Act, as domestic producers of CTL plate in the United States. The Department received substantive responses from both domestic interested parties and the following respondent interested parties: the Government of the United Kingdom (UKG), the European Union Delegation of the European Commission (EC), Corus Group plc. (Corus) ¹, Niagara LaSalle (UK) Limited (Niagara) ², and Spartan UK Ltd (Spartan).

¹ British Steel Corporation (British Steel) was a government-owned entity, and in 1988, prior to the period of investigation (POI), it was privatized and reorganized as British Steel plc (BS plc). On September 17, 1995, the Department issued its Final Results of Redetermination Pursuant to Court Remand on General Issue of Privatization, British Steel plc v. United States, Slip Op. 95-17 and Order (CIT Feb 9, 1995) (1995 Redetermination Final) and determined the net subsidy rate for BS plc to be 21.30 percent ad valorem. BS plc has reported that in 1999, it became part of Corus Group plc. (Corus) after merging with Koninklijke Hoogovens.

² The Department determined that Niagara LaSalle was the successor-in-interest of Glynwed in Certain Hot-Rolled Lead and Bismuth Carbon Steel Products from the United Kingdom: Final Results of Changed Circumstances Antidumping Countervailing Duty Administrative Reviews, 64 FR 66880 (November 30, 1999).

On December 21, 2005, the Department determined that the participation of the respondent interested parties was adequate, and that it was appropriate to conduct a full sunset review. See Memorandum to Stephen J. Claeys, Deputy Assistant Secretary, Import Administration, Re: Adequacy Determination; Sunset Review of the Countervailing Duty Order on Cut-to-Length Carbon Steel Plate from the United Kingdom, dated December 21, 2005, and on file in the Central Records Unit, Room B-099 of the Department of Commerce building. On February 10, 2006, the Department extended the time limit for the preliminary and final results of the sunset review of the CVD order on CTL plate from the United Kingdom (UK). See Cut-to-Length Carbon Steel Plate from Belgium, Sweden, and the United Kingdom; Extension of Time Limits for Preliminary and Final Results of Full Five-Year (“Sunset”) Reviews of Countervailing Duty Orders, 71 FR 7017. The Department extended the preliminary results to no later than July 14, 2006, and the final results to no later than September 27, 2006.

Scope of the Order

The products covered by this countervailing duty order are certain cut-to-length carbon steel plates from the United Kingdom, including hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the United States Harmonized Tariff Schedule (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included are flat-rolled products of non-rectangular cross-section where such cross-section is achieved subsequent to the rolling process (i.e., products which have been “worked after rolling”)—for example, products which have been beveled or rounded at the edges. Excluded is grade X-70 plate. These HTSUS item numbers are provided for convenience and customs purposes. The written description remains dispositive. As a result of a changed circumstances review³, the order excludes certain cut-to-length carbon steel plate with a maximum thickness of 80 mm in steel grades BS 7191, 355 EM and 355 EMZ, as amended by Sable Offshore Energy Project specification XB MOO Y 15 0001, types 1 and 2.

³See Certain Cut-to-Length Carbon Steel Plate from Finland, Germany and the United Kingdom: Final Results of Changed Circumstances Antidumping Duty and Countervailing Duty Reviews, and Revocation of Orders in Part, 64 FR 46343 (August 25, 1999).

Analysis of Comments Received

All issues raised in this review are addressed in the Preliminary I ssues and Decision Memorandum (Preliminary Decision Memorandum) from Stephen J. Claeys, Deputy Assistant Secretary for Import Administration, to David M. Spooner, Assistant Secretary for Import Administration, dated concurrently with this notice and which is hereby adopted by this notice. Parties can find a complete discussion of all issues raised in this review and the corresponding recommendation in this public memorandum which is on file in the Central Records Unit room B-099 of the main Commerce building. In addition, a complete version of the Preliminary Decision Memorandum can be accessed directly on the Web at http://ia.ita.doc.gov/frn. The paper copy and electronic version of the Preliminary Decision Memorandum are identical in content.

Preliminary Results of Review

The Department preliminarily determines that revocation of the CVD order would likely lead to continuation or recurrence of a countervailable subsidy. The net countervailable subsidy likely to prevail if the order were revoked is 0.00 percent ad valorem for Glynwed/Niagara and 0.77 percent ad valorem for “all other” producers/exporters of CTL plate from the United Kingdom, including British Steel, plc. Interested parties may submit case briefs and hearing requests no later than two weeks after the date of publication of these preliminary results, in accordance with 19 CFR 351.309 (c)(1)(i) and 19 CFR 351.310(c). Rebuttal briefs, which must be limited to issues raised in the case briefs, may be filed not later than five days from the filing of the case briefs, in accordance with 19 CFR 351.309(d). If a hearing is requested, parties will be notified of the date, time and location. The Department will issue a notice of final results of this sunset review no later than September 27, 2006, which will include the results of its analysis of issues raised in any such comments.

We are issuing and publishing these preliminary results and notice in accordance with sections 751(c), 752, and 777(i)(1) of the Act.

Dated: July 12, 2006.
David M. Spooner,
Assistant Secretary for Import Administration.

[FR Doc. E6-11458 Filed 7-18-06; 8:45 am]

BILLING CODE 3510-DS-P